LIBRARY OF CONGRESS

Copyright Royalty Board

[Docket No. 16-CRB-0001-SR/PSSR (2018-2022)]

Determination of Rates and Terms for Satellite Radio and “Preexisting” Subscription Services (SDARS III ¹)

¹ SDARS stands for Satellite Digital Audio Radio Service.

AGENCY: Copyright Royalty Board, Library of Congress.

ACTION: Notice announcing commencement of proceeding with request for Petitions to Participate.

SUMMARY: The Copyright Royalty Judges announce commencement of a proceeding to determine reasonable rates and terms for the digital performance of sound recordings and the making of ephemeral recordings by satellite radio and “preexisting” subscription services ² for the period beginning January 1, 2018, and ending December 31, 2022. The Copyright Royalty Judges also announce the date by which a party wishing to participate in the rate determination proceeding must file its Petition to Participate and the accompanying $150 filing fee.

² Only subscription digital audio transmission services in operation on or before July 31, 1998, qualify as and continue to be called “preexisting” subscription services. See 17 U.S.C. 114(j)(11); see also 114(d)(2)(B).

DATES: Petitions to Participate and the filing fee are due no later than February 4, 2016.

ADDRESSES: This notice and request is also posted on the agency's Web site (www.loc.gov/crb) and on Regulations.gov (www.regulations.gov). Parties who plan to participate should see How to Submit Petitions to Participate in the SUPPLEMENTARY INFORMATION section below for physical addresses and further instructions.

FOR FURTHER INFORMATION CONTACT: LaKeshia Keys, CRB Program Specialist, by telephone at (202) 707-7658 or email at crb@loc.gov.

SUPPLEMENTARY INFORMATION: Under the Copyright Act, the Copyright Royalty Judges (Judges) must commence a proceeding every five years to determine reasonable rates and terms to license the digital transmission of sound recordings and the making of ephemeral recordings to facilitate those transmissions by preexisting subscription services and preexisting satellite digital audio radio services. See 17 U.S.C. 112 (e), 114(d)(2), 804(b)(3)(B), 803(b)(1)(A)(i)(III). This notice commences the rate determination proceeding for the license period 2018-2022.

Petitions To Participate

Parties with a significant interest in the outcome of the rate proceeding must file Petitions to Participate in accordance with § 351.1(b) of the Judges' regulations. See 37 CFR 351.1(b). Parties must send the $150 filing fee with each Petition to Participate. The Copyright Royalty Board (CRB) will not accept payment by cash; therefore, parties must pay the filing fee with a check or money order made payable to “Copyright Royalty Board.” If a check received in payment of the filing fee is returned for lack of sufficient funds, the Judges will dismiss the corresponding Petition to Participate.

Only attorneys who are admitted to the bar in one or more states or the District of Columbia and are members in good standing will be allowed to represent parties before the Judges. Only an individual may represent herself or himself and appear without legal counsel. 37 CFR 350.2.

How To Submit Petitions To Participate

Any party wishing to participate in the proceeding to determine cable royalty rates for 2015 through 2019 must submit to the Copyright Royalty Board the filing fee (U.S. $150), an original (paper) Petition to Participate, five paper copies, and an electronic copy on a CD or other portable memory device in Portable Document Format (PDF) that contains searchable, accessible text (not a scanned image of text). Participants should conform all filed electronic documents to the Judges' Guidelines for Electronic Documents posted on the Copyright Royalty Board Web site at www.loc.gov/crb/docs/Guidelinesfor_Electronic_Documents.pdf. Participants shall deliver Petitions to Participate to only one of the following addresses.

U.S. mail: Copyright Royalty Board, P.O. Box 70977, Washington, DC 20024-0977; or

Overnight service (only USPS Express Mail is acceptable): Copyright Royalty Board, P.O. Box 70977, Washington, DC 20024-0977; or

Commercial courier: Address package to: Copyright Royalty Board, Library of Congress, James Madison Memorial Building, LM-403, 101 Independence Avenue SE., Washington, DC 20559-6000. Deliver to: Congressional Courier Acceptance Site, 2nd Street NE. and D Street NE., Washington, DC; or

Hand delivery: Library of Congress, James Madison Memorial Building, LM-401, 101 Independence Avenue SE., Washington, DC 20559-6000.

Dated: December 29, 2015.
Suzanne M. Barnett,
Chief Copyright Royalty Judge.

[FR Doc. 2015-33119 Filed 1-4-16; 8:45 am]

BILLING CODE 1410-72-P